DEPARTMENT OF HOUSING AND URBAN DEVELOPMENT

[Docket No. FR-5480-N-87]

Notice of Submission of Proposed Information Collection to OMB Section 8 Random Digit Dialing Fair Marketing Rent Surveys

AGENCY: Office of the Chief Information Officer, HUD.

ACTION: Notice.

SUMMARY: The proposed information collection requirement described below has been submitted to the Office of Management and Budget (OMB) for review, as required by the Paperwork Reduction Act. The Department is soliciting public comments on the subject proposal.

HUD is evaluating alternative survey methodologies to collect gross rent data for specific areas in a relatively fast and accurate way that may be used to estimate and update Section 8 Fair Market Rents (FMRs) in areas where FMRs are believed to be incorrect and data from the American Community Survey is not available at the local level. Section 8(C)(1) of the United States Housing Act of 1937 requires the Secretary to publish Fair Market Rents (FMRs) annually to be effective on October 1 of each year. FMRs are used for the Section 8 Rental Certificate Program (including space rentals by owners of manufactured homes under that program); the Moderate Rehabilitation Single Room Occupancy program; housing assisted under the Loan Management and Property Disposition programs; payment standards for the Rental Voucher program; and any other programs whose regulations specify their use. Random digit dialing (RDD) telephone surveys have been used for many years to adjust FMRs and will be evaluated for continued use. These surveys are based on a sampling procedure that uses computers to select statistically random samples of telephone numbers to locate certain types of rental housing units for surveying. Cell phone surveys will be incorporated into this methodology and comprise roughly one-third of the sample. In addition HUD will collect survey data using web-based and mail systems. Initially, as the methodology is being refined, HUD will conduct surveys of up to 4 individual FMR areas in a year to test the accuracy of their FMRs. Up to 5 individual FMR area will be surveyed after the new methodology is determined.

DATES: Comments Due: September 28, 2011.

ADDRESSES: Interested persons are invited to submit comments regarding this proposal. Comments should refer to the proposal by name and/or OMB approval Number (2528-0142) and should be sent to: HUD Desk Officer, Office of Management and Budget, New Executive Office Building, Washington, DC 20503; fax: 202-395-5806. e-mail: OIRA_Submission@omb.eop.gov fax: 202-395-5806.

FOR FURTHER INFORMATION CONTACT: Colette Pollard., Reports Management Officer, QDAM, Department of Housing and Urban Development, 451 Seventh Street, SW., Washington, DC 20410; e-mail Colette Pollard at Colette. Pollard@hud.gov. or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Section 8 Random Digit Dialing Fair Marketing Rent Surveys.

OMB Approval Number: 2528-0142.

Form Numbers: None.

Description of the Need for the Information and Its Proposed Use: HUD is evaluating alternative survey methodologies to collect gross rent data for specific areas in a relatively fast and accurate way that may be used to estimate and update Section 8 Fair Market Rents (FMRs) in areas where FMRs are believed to be incorrect and data from the American Community Survey is not available at the local level. Section 8(C)(1) of the United States Housing Act of 1937 requires the Secretary to publish Fair Market Rents (FMRs) annually to be effective on October 1 of each year. FMRs are used for the Section 8 Rental Certificate Program (including space rentals by owners of manufactured homes under that program); the Moderate Rehabilitation Single Room Occupancy program; housing assisted under the Loan Management and Property Disposition programs; payment standards for the Rental Voucher program; and any other programs whose regulations specify their use. Random digit dialing (RDD) telephone surveys have been used for many years to adjust FMRs and will be evaluated for continued use. These surveys are based on a sampling procedure that uses computers to select statistically random samples of telephone numbers to locate certain types of rental housing units for surveying. Cell phone surveys will be incorporated into this methodology and comprise roughly one-third of the sample. In addition HUD will collect survey data using web-based and mail systems. Initially, as the methodology is being refined, HUD will conduct surveys of up to 4 individual FMR areas in a year to test the accuracy of their FMRs. Up to 5 individual FMR areas will be surveyed after the new methodology is determined.

Frequency of Submission: On occasion .

| Number of respondents | Annual responses | × | Hours per response | = | Burden hours
Reporting Burden | 8572 | 1 |  | 0.0702 |  | 602

Total Estimated Burden Hours: 602.

Status: Revision of a currently approved collection.

Authority: Section 3507 of the Paperwork Reduction Act of 1995, 44 U.S.C. 35, as amended.

Dated: August 23, 2011.
Colette Pollard,
Departmental Reports Management Officer, Office of the Chief Information Officer.

[FR Doc. 2011-22029 Filed 8-26-11; 8:45 am]

BILLING CODE 4210-67-P